DEPARTMENT OF LABOR

Employment and Training Administration

[TA-W-37,937]

Wolverine Worldwide, Inc., Kirksville, Missouri; Amended Certification Regarding Eligibility To Apply for Worker Adjustment Assistance

In accordance with Section 223 of the Trade Act of 1974 (19 U.S.C. 2273) the Department of Labor issued a Certification of Eligibility to Apply for Worker Adjustment Assistance on August 31, 2000, applicable to workers of Wolverine Worldwide, Inc., Kirksville, Missouri. The notice was published in the Federal Register on September 22, 2000 (65 FR 57386).

At the request of the company and the State agency, the Department reviewed the certification for workers of the subject firm. New information shows that Mr. Clifford Lumsden was retained at the subject firm as a security guard/maintenance personnel until the plant closed in September 2002 resulting in Mr. Lumsden's termination. Information also shows that Mr. Lumsden was separated from the subject firm after the August 31, 2002 expiration date of previous certification.

The intent of the Department's certification is to include all workers of Wolverine Worldwide, Inc. who were adversely affected by increased imports. Therefore, the Department is amending the certification to extend coverage through October 31, 2002 to include Mr Clifford Lumsden.

The amended notice applicable to TA-W-37,937 is hereby issued as follows:

“All workers of Wolverine Worldwide, Inc., Kirksville, Missouri, who became totally or partially separated from employment on or after July 17, 1999, through October 31, 2002, are eligible to apply for adjustment assistance under Section 223 of the Trade Act of 1974.”

Signed at Washington, DC this 24th day of January 2003.
Edward A. Tomchick,
Director, Division of Trade Adjustment Assistance.

[FR Doc. 03-2870 Filed 2-5-03; 8:45 am]

BILLING CODE 4510-30-P